INTERNATIONAL TRADE COMMISSION

[Investigation No. 337-TA-1235]

Certain Vehicle Control Systems, Vehicles Containing the Same, and Components Thereof; Notice of a Commission Determination Not To Review an Initial Determination Granting a Joint Motion To Terminate the Investigation Due to a Settlement Agreement; Termination of the Investigation

AGENCY: U.S. International Trade Commission.

ACTION: Notice.

SUMMARY: Notice is hereby given that the U.S. International Trade Commission (“Commission”) has determined not to review an initial determination (“ID”) (Order No. 58) issued by the presiding administrative law judge (“ALJ”) granting a joint motion to terminate the investigation based on a settlement agreement. The investigation is hereby terminated.

FOR FURTHER INFORMATION CONTACT: Carl P. Bretscher, Esq., Office of the General Counsel, U.S. International Trade Commission, 500 E Street SW, Washington, DC 20436, telephone (202) 205-2382. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted this investigation on December 29, 2020, based on a complaint, as supplemented, filed by Jaguar Land Rover Ltd. of Coventry, United Kingdom and Jaguar Land Rover North America, LLC of Mahwah, New Jersey (collectively, “JLR”). 85 FR 85659 (Dec. 29, 2020). The complaint, as supplemented, alleges violations of section 337 of the Tariff Act of 1930, as amended, 19 U.S.C. 1337 (“Section 337”), in the importation into the United States, sale for importation, or sale in the United States after importation of certain vehicle control systems, vehicles containing the same, and components thereof by reason of infringement of certain claims of U.S. Patent No. RE46,828 (“the '828 patent”). The complaint further alleges that a domestic industry exists. Id. The Commission's notice of investigation named the following respondents: Dr. Ing. h.c. F. Porsche AG (d/b/a Porsche AG) of Stuttgart, Germany; Porsche Cars North America, Inc. of Atlanta, Georgia; Automobili Lamborghini S.p.A. of Sant'Agata Bolognese, Italy; Automobili Lamborghini America, LLC of Herndon, Virginia; Volkswagen AG of Wolfsburg, Germany; Volkswagen Group of America, Inc. of Herndon, Virginia; Audi AG of Ingolstadt, Germany; and Audi of America, LLC of Herndon, Virginia. Id. The Office of Unfair Import Investigations was not named as a party to this investigation. Id.

The Commission partially terminated the investigation with respect to certain claims of the '828 patent based on unopposed motions filed by JLR. Order No. 43 (May 3, 2021), unreviewed by Comm'n Notice (June 1, 2021); Order No. 47 (Aug. 4, 2021), unreviewed by Comm'n Notice (Aug. 18, 2021); Order No. 48 (Aug. 5, 2021), unreviewed by Comm'n Notice (Aug. 18, 2021).

On September 27, 2021, JLR and Respondents filed a joint motion to terminate the investigation based on a settlement agreement that settled all of the issues between the parties.

On November 18, 2021, the presiding ALJ issued the subject ID (Order No. 58) granting the joint motion to terminate the investigation. The ID finds that the settlement agreement complies with Commission Rules 210.21(a)(1) and 210.21(b)(1) (19 CFR 210.21(a)(1), 210.21(b)(1)) because it completely resolves the dispute between the parties, and there are no other agreements, written or oral, express or implied, between the parties concerning the subject matter of the investigation. The ID also finds that terminating the investigation is in the public interest and will conserve public and private resources. The ID finds there are no extraordinary circumstances that would prevent the termination of this investigation.

No petition for review of the subject ID was filed.

The Commission has determined not to review the subject ID. Accordingly, the investigation is hereby terminated in its entirety.

The Commission vote for this determination took place on December 17, 2021.

The authority for the Commission's determination is contained in section 337 of the Tariff Act of 1930, as amended (19 U.S.C. 1337), and in Part 210 of the Commission's Rules of Practice and Procedure (19 CFR part 210).

By order of the Commission.
Issued: December 17, 2021.
Lisa Barton,
Secretary to the Commission.

[FR Doc. 2021-27758 Filed 12-21-21; 8:45 am]

BILLING CODE 7020-02-P